DEPARTMENT OF AGRICULTURE

Submission for OMB Review; Comment Request

October 29, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Aquaculture Risk Management Survey.

OMB Control Number: 0563-NEW.

Summary of Collection: The Agricultural Risk Protection Act of 2000 (Pub. L. 106-224) requires the Risk Management Agency (RMA) to increase the availability of risk management tools to underserved commodities. Aquaculture production in the U.S. utilizes different aquatic environments (warm and cold, fresh and salt water) and types of growing systems (pond culture, flow and net pens). Aquaculture operations are located in every State; however, production is concentrated in catfish, trout, salmon and baitfish. RMA will develop a one-time survey that will aid them in the development for a risk management profile of aquaculture producers.

Need and Use of the Information: RMA will use the results from the survey to determine how a crop insurance program may be designed or adapted to meet the needs of aquaculture producers. The information collected also would provide guidance in the design of insurance programs. If the survey were not conducted, the development of risk management programs for aquaculture producers would be compromised.

Description of Respondents: Farms; Individuals or households; Business or other for-profit.

Number of Respondents: 2,200.

Frequency of Responses: Reporting: Other (One-Time).

Total Burden Hours: 1,247.

Title: Grass Seed Feasibility Study.

OMB Control Number: 0563-NEW.

Summary of Collection: The Agricultural Risk Protection Act of 2000 (Pub. L. 106-224) directed the Risk Management Agency (RMA) of the U.S. Department of Agriculture to carry out research and development for purposes of increasing participation in crop insurance by producers of underserved agricultural commodities (section 522(c)). Because grass seed is one of these underserved commodities, many producers lack access to crop insurance. In the past, many grass seed producers have received disaster payments through the Noninsured Crop Disaster Assistance Program.

Need and Use of the Information: The information collected in this study will make it possible to determine the feasibility for providing crop insurance to producers of this crop. RMA will use this information to assess the frequency and severity of changes in the volume and value of production to determine the probability distribution of these severities across tree farms producing these crops. If this information were not collected, it would not be possible to develop an actuarial profile of the industry, a requirement for judging the feasibility of designing and implementing a crop insurance program for grass seed producers.

Description of Respondents: Individuals or households; Farms; Business or other for-profit.

Number of Respondents: 4,889.

Frequency of Responses: Recordkeeping; Reporting: Other (One-Time).

Total Burden Hours: 1,611.

Title: Christmas Tree Crop Insurance Survey.

OMB Control Number: 0563-NEW.

Summary of Collection: The Agricultural Risk Protection Act of 2000 (Pub L. 106-224) directed the Risk Management Agency (RMA) of the U.S. Department of Agriculture to carry out research and development for purposes of increasing participation in crop insurance by producers of underserved agricultural commodities (section 522(c)). Christmas tree production is one of several crops for which crop insurance is not available. They are grown in all 50 states on as many as 1 million acres. The production of Christmas trees is an intensive agriculture-forestry enterprise that requires practices and techniques much like those required for any other crop.

Need and Use of the Information: The information collected in this study will make it possible to determine the price elections and premium rate levels for providing crop insurance to producers of this crop. RMA will use this information to assess the frequency and severity of changes in the volume and value of production and to determine the probability distribution of these severities across tree farms producing these crops.

Description of Respondents: Individuals or households; Farms; Business or other for-profit.

Number of Respondents: 876.

Frequency of Responses: Reporting: Other (One-Time).

Total Burden Hours: 986.

Sondra Blakey,
Departmental Information Collection Clearance Officer.

[FR Doc. 04-24605 Filed 11-3-04; 8:45 am]

BILLING CODE 3410-08-P